INTERNATIONAL TRADE COMMISSION

[Inv. No. 337-TA-1363]

Certain Lidar (Light Detection and Ranging) Systems and Components Thereof; Notice of Institution

AGENCY: International Trade Commission.

ACTION: Notice.

SUMMARY: Notice is hereby given that a complaint was filed with the U.S. International Trade Commission on April 11, 2023, under section 337 of the Tariff Act of 1930, as amended, on behalf of Ouster, Inc. of San Francisco, California. A supplement was filed on April 19, 2023. The complaint, as supplemented, alleges violations of section 337 based upon the importation into the United States, the sale for importation, and the sale within the United States after importation of certain LiDAR (Light Detection and Ranging) systems and components thereof by reason of the infringement of certain claims of U.S. Patent No. 11,175,405 (“the '405 patent”); U.S. Patent No. 11,178,381 (“the '381 patent”); U.S. Patent No. 11,190,750 (“the '750 patent”); U.S. Patent No. 11,287,515 (“the '515 patent”); and U.S. Patent No. 11,422,236 (“the '236 patent”). The complaint further alleges that an industry in the United States exists as required by the applicable Federal Statute. The complainant requests that the Commission institute an investigation and, after the investigation, issue a limited exclusion order and a cease and desist order.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2023).

Scope of Investigation: Having considered the complaint, the U.S. International Trade Commission, on May 10, 2023, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 21 and 23-34 of the '405 patent; claims 1-3, 5-8, and 10-17 of the '381 patent; claims 44-48, and 50 of the '750 patent; claims 1-2, 4-6, 8-9, 12-14, 17, 19-23, and 25 of the '515 patent; and claims 1-2 and 7-27 of the '236 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “digital LiDAR (`Light Detection and Ranging') devices, components thereof, and systems containing the same, that utilize LiDAR technology which remotely senses the external environment”;

(3) For the purpose of the investigation so instituted, the following are hereby named as parties upon which this notice of investigation shall be served:

(a) The complainant is:

Ouster, Inc., 350 Treat Avenue, San Francisco, CA 94110.

(b) The respondents are the following entities alleged to be in violation of section 337, and the parties upon which the complaint is to be served:

Hesai Group, 9th Floor, Building L2-B, 1588 Zhuguang Road, Qingpu District, Shanghai 201702, China

Hesai Technology Co., Ltd., 9th Floor, Building L2-B, 1588 Zhuguang Road, Qingpu District, Shanghai 201702, China

Hesai Inc., 3500 W Bayshore Rd., Palo Alto, CA 94303

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR. 210.13. Pursuant to 19 CFR. 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: May 11, 2023.
Katherine Hiner,
Supervisory Attorney.

[FR Doc. 2023-10478 Filed 5-16-23; 8:45 am]

BILLING CODE 7020-02-P